DEPARTMENT OF ENERGY

Federal Energy Regulatory Commission

Combined Notice of Filings #1

Take notice that the Commission received the following exempt wholesale generator filings:

Docket Numbers: EG18-9-000.

Applicants: Capricorn Bell Interconnection, LLC.

Description: Notice of Self-Certification of Exempt Wholesale Generator Status of Capricorn Bell Interconnection, LLC.

Filed Date: 10/20/17.

Accession Number: 20171020-5243.

Comments Due: 5 p.m. ET 11/13/17.

Take notice that the Commission received the following electric rate filings:

Docket Numbers: ER17-2548-000.

Applicants: EGP Stillwater Solar PV II, LLC.

Description: Amendment to September 26, 2017 EGP Stillwater Solar PV II, LLC tariff filing.

Filed Date: 10/20/17.

Accession Number: 20171020-5218.

Comments Due: 5 p.m. ET 11/13/17.

Docket Numbers: ER18-125-000.

Applicants: NextEra Energy Transmission New York, Inc.

Description: § 205(d) Rate Filing: NextEra Energy Transmission New York, Inc. Incentives Rate Filing to be effective 12/19/2017.

Filed Date: 10/20/17.

Accession Number: 20171020-5201.

Comments Due: 5 p.m. ET 11/13/17.

Docket Numbers: ER18-126-000.

Applicants: AL Solar A, LLC.

Description: Baseline eTariff Filing: Application of AL Solar A, LLC for MBR to be effective 12/1/2017.

Filed Date: 10/23/17.

Accession Number: 20171023-5089.

Comments Due: 5 p.m. ET 11/13/17.

Docket Numbers: ER18-127-000.

Applicants: Virginia Electric and Power Company, PJM Interconnection, L.L.C.

Description: § 205(d) Rate Filing: VEPCO submits Wholesale Distribution Service Agreement No. 4817 to be effective 10/1/2017.

Filed Date: 10/23/17.

Accession Number: 20171023-5144.

Comments Due: 5 p.m. ET 11/13/17.

Docket Numbers: ER18-128-000.

Applicants: 54KR 8ME LLC.

Description: Baseline eTariff Filing: Baseline new to be effective 12/12/2017.

Filed Date: 10/23/17.

Accession Number: 20171023-5245.

Comments Due: 5 p.m. ET 11/13/17.

Docket Numbers: ER18-129-000.

Applicants: Florida Power & Light Company.

Description: § 205(d) Rate Filing: Florida Power & Light Company Certificate of Concurrence Rate Schedule No. 329 to be effective 8/15/2017.

Filed Date: 10/23/17.

Accession Number: 20171023-5247.

Comments Due: 5 p.m. ET 11/13/17.

Docket Numbers: ER18-130-000.

Applicants: J-POWER North American Holdings Co., LTD, Equus Power I, L.P.

Description: Compliance filing: Market Based Rate Triennial Update Compliance Filing Docket Nos. ER10-3059 et al to be effective 12/22/2017.

Filed Date: 10/23/17.

Accession Number: 20171023-5249.

Comments Due: 5 p.m. ET 11/13/17.

Docket Numbers: ER18-131-000.

Applicants: J-POWER North American Holdings Co., LTD, Pinelawn Power, LLC.

Description: Compliance filing: Market Based Rate Triennial Update Compliance Filing Docket Nos. ER10-3058 et al to be effective 12/21/2017.

Filed Date: 10/23/17.

Accession Number: 20171023-5248.

Comments Due: 5 p.m. ET 11/13/17.

Docket Numbers: ER18-132-000.

Applicants: ISO New England Inc., Eversource Energy Service Company

Description: § 205(d) Rate Filing: Eversource Ministerial, Non-Rate Tariff Revisions to be effective 1/1/2018.

Filed Date: 10/23/17.

Accession Number: 20171023-5294.

Comments Due: 5 p.m. ET 11/13/17.

Docket Numbers: ER18-133-000.

Applicants: Cooperative Energy.

Description: Baseline eTariff Filing: Blackstart Service to be effective 1/1/2018.

Filed Date: 10/23/17.

Accession Number: 20171023-5295.

Comments Due: 5 p.m. ET 11/13/17.

Docket Numbers: ER18-134-000.

Applicants: Midcontinent Independent System Operator, Inc. American Electric Power Service Corporation.

Description: § 205(d) Rate Filing: 2017-10-23_SA 1524 I&M-NIPSCO Interconnection Agreement 1st Rev to be effective 7/19/2017.

Filed Date: 10/23/17.

Accession Number: 20171023-5415.

Comments Due: 5 p.m. ET 11/13/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 23, 2017.
Nathaniel J. Davis, Sr.,
Deputy Secretary.

[FR Doc. 2017-23880 Filed 11-1-17; 8:45 am]

BILLING CODE 6717-01-P